CORPORATION FOR NATIONAL AND COMMUNITY SERVICE

Agency Information Collection Activities; Submission to the Office of Management and Budget for Review and Approval; Comment Request; AmeriCorps Member Exit Survey

AGENCY: Corporation for National and Community Service.

ACTION: Notice of information collection; request for comment.

SUMMARY: The Corporation for National and Community Service, operating as AmeriCorps, has submitted a public information collection request (ICR) entitled Member Exit Survey for review and approval in accordance with the Paperwork Reduction Act.

DATES: Written comments must be submitted to the individual and office listed in the ADDRESSES section by July 1, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling the Corporation for National and Community Service, Dr. Andrea Robles, Office of Evaluation and Research, (202) 510-6292, arobles@americorps.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day notice requesting public comment was published in the Federal Register on March 26, 2024 at 89 FR 20951. This comment period ended May 28, 2024. No public comments were received from this notice.

Title of Collection: AmeriCorps Member Exit Survey.

OMB Control Number: 3045-0094. Type of Review: Revision.

Respondents/Affected Public: Individuals.

Total Estimated Number of Annual Responses: 80,000.

Total Estimated Number of Annual Burden Hours: 20,000.

Abstract: All members in the three AmeriCorps programs—AmeriCorps State & National, VISTA, and the National Civilian Community Corps (NCCC)—are invited to complete a questionnaire upon completing their service term. The questionnaire asks members about their motivations for joining AmeriCorps, experiences while serving, and future plans and aspirations. Completion of the questionnaire is not required to successfully exit AmeriCorps or to receive any stipends, education awards, or other benefits of service. The purpose of the information collection is to learn more about the member experience and members' perceptions of their AmeriCorps experience so that AmeriCorps can improve the program. Members complete the questionnaire electronically through the AmeriCorps Member Portal. Members are invited to respond as their exit date nears and are allowed to respond for an indefinite period following the original invitation. AmeriCorps seeks to revise the current information collection. The questionnaire submitted for clearance will be revised to change response options for one of the questions or to add a new question, as needed, to better obtain information on self-efficacy. AmeriCorps also seeks to continue using the currently approved information collection until the renewed information collection is approved by OMB. The current application expires on May 31, 2024.

Mary Hyde,
Director, Office of Research and Evaluation.

[FR Doc. 2024-12013 Filed 5-30-24; 8:45 am]

BILLING CODE 6050-28-P